OFFICE OF PERSONNEL MANAGEMENT

5 CFR Part 735

RIN: 3206-AJ74

Employee Responsibilities and Conduct

AGENCY: Office of Personnel Management.

ACTION: Proposed rulemaking.

SUMMARY: The Office of Personnel Management (OPM) is proposing a plain language rewrite of its regulations regarding the standards that govern employee responsibilities and conduct as part of a broader review of OPM's regulations. The purpose of the revisions is to make the regulations more readable.

DATES: Comments must be submitted on or before March 17, 2003.

ADDRESSES: Send or deliver written comments to Wade Plunkett, Principal Deputy Ethics Official, Office of the General Counsel, Office of Personnel Management, Room 7532, 1900 E St., NW., Washington, DC 20415, or FAX: 202-606-0082 or e-mail them to wmplunke@opm.gov.

FOR FURTHER INFORMATION CONTACT: Wade Plunkett, by telephone at 202-606-1700; or by FAX at 202-606-0082 or by e-mail at wmplunke@opm.gov.

SUPPLEMENTARY INFORMATION: OPM is revising part 735, which deals with employee responsibility and conduct, as part of a larger review of OPM regulations for plain language purposes. The purpose of this revision to part 735 is not to make substantive changes, but rather to make part 735 more readable. The proposed regulations have been converted to a question-and-answer format, and we have made minor changes to the wording to enhance clarity.

Regulatory Flexibility Act

I certify that these regulations will not have a significant economic impact on a substantial number of small entities because they will affect only Federal agencies and employees.

E.O. 12866, Regulatory Review

This rule has been reviewed by the Office of Management and Budget in accordance with E.O. 12866.

List of Subjects in 5 CFR Part 735

Conflicts of interest, Government employees.

Office of Personnel Management.
Kay Coles James,
Director.

Accordingly, OPM proposes to revise part 735 as follows:

PART 735—EMPLOYEE RESPONSIBILITIES AND CONDUCT

Note: Part 1001, added to this subchapter at 31 FR 873, January 22, 1966, and revised at 32 FR 11113, August 1, 1967, 36 FR 6874, April 9, 1971, and 61 FR 36996, July 16, 1996, supplement this part 735.

Subpart A—General Provisions

Sec.

735.101 Definitions.

735.102 What are the grounds for disciplinary action?

735.103 What other regulations pertain to employee conduct?

Subpart B—Standards of Conduct

Sec.

735.201 What are the restrictions on gambling?

735.202 What are the restrictions that safeguard the examination process?

735.203 What are the restrictions on conduct prejudicial to the Government?

Authority: 5 U.S.C. 7301; E.O. 12674, 54 FR 15159, 3 CFR, 1989 Comp., p. 215, as modified by E.O. 12731, 55 FR 42547, 3 CFR, 1990 Comp., p. 306.

Subpart A—General Provisions

§ 735.101 Definitions.

In this part:

Agency means an Executive agency (other than the General Accounting Office) as defined by 5 U.S.C. 105, the Postal Service, and the Postal Rate Commission.

Employee means any officer or employee of an agency, including a special Government employee, but does not include a member of the uniformed services.

Government means the United States Government.

Special Government employee means those officers or employees specified in 18 U.S.C. 202(a) except those employed in the legislative branch or by the District of Columbia.

Uniformed services has the meaning given that term by 5 U.S.C. 2101(3).

§ 735.102 What are grounds for disciplinary action?

An employee's violation of any of the regulations in subpart B of this part may be cause for disciplinary action by the employee's agency, which may be in addition to any penalty prescribed by law.

§ 735.103 What other regulations pertain to employee conduct?

In addition to the standards of conduct in subpart B of this part, an employee shall comply with the standards of ethical conduct in 5 CFR part 2635, as well as any supplemental regulation issued by the employee's agency under 5 CFR 2635.105. An employee's violation of those regulations may cause the employee's agency to take disciplinary action, or corrective action as that term is used in 5 CFR part 2635. Such disciplinary action or corrective action may be in addition to any penalty prescribed by law.

Subpart B—Standards of Conduct

§ 735.201 What are the restrictions on gambling?

(a) While on Government-owned or leased property or on duty for the Government, an employee shall not conduct or participate in any gambling activity, including operating a gambling device, conducting a lottery or pool, participating in a game for money or property, or selling or purchasing a numbers slip or ticket.

(b) This section does not preclude activities:

(1) Necessitated by an employee's official duties; or

(2) Occurring under section 7 of Executive Order 12353 and similar agency-approved activities.

§ 735.202 What are the restrictions that safeguard the examination process?

(a) An employee shall not, with or without compensation, teach, lecture, or write for the purpose of the preparation of a person or class of persons for an examination of the Office of Personnel Management (OPM) or Board of Examiners for the Foreign Service that depends on information obtained as a result of the employee's Government employment.

(b) This section does not preclude the preparation described in paragraph

(a) of this section if:

(1) The information upon which the preparation is based has been made available to the general public or will be made available on request; or

(2) Such preparation is authorized in writing by the Director of OPM, or his or her designee, or by the Director General of the Foreign Service, or his or her designee, as applicable.

§ 735.203 What are the restrictions on conduct prejudicial to the Government?

An employee shall not engage in criminal, infamous, dishonest, immoral, or notoriously disgraceful conduct, or other conduct prejudicial to the Government.

[FR Doc. 03-818 Filed 1-14-03; 8:45 am]

BILLING CODE 6325-48-P